NATIONAL TRANSPORTATION SAFETY BOARD

Sunshine Act Meeting

Time and Place: 9:30 a.m., Tuesday, March 5, 2002.

Place: NTSB Conference Center, 429 L'Enfant Plaza SW., Washington, DC 20594.

Status: The two items are Open to the Public.

Matters To Be Considered: 7444—Railroad Accident Brief and Safety Recommendation Letters—Derailment of Amtrak Train No. 5-17 on Burlington Northern and Santa Fe Railway Track near Nodaway, Iowa, March 17, 2001.

7445—Railroad Accident Report—Derailment of CSX Transportation Coal Train V986-26 at Bloomington, Maryland, January 30, 2000.

News Media Contact: Telephone: (202) 314-6100.

Individuals requesting specific accommodations should contact Ms. Carolyn Dargan at (202) 314-6305 by Friday, March 1, 2002.

FOR FURTHER INFORMATION CONTACT: Vicky D'Onofrio, (202) 314-6410.

Dated: February 22, 2002.
Vicky D'Onofrio,
Federal Register Liaison Officer.

[FR Doc. 02-4656 Filed 2-22-02; 2:15 pm]

BILLING CODE 7533-01-M